DEPARTMENT OF COMMERCE

Foreign-Trade Zones Board

[B-42-2014]

Foreign-Trade Zone 183—Austin, Texas; Authorization of Production Activity; Flextronics America, LLC; (Automated Data Processing Machines); Austin, Texas

On May 29, 2014, Flextronics America, LLC submitted a notification of proposed production activity to the Foreign-Trade Zones (FTZ) Board for its facility within Subzone 183C, in Austin, Texas.

The notification was processed in accordance with the regulations of the FTZ Board (15 CFR part 400), including notice in the Federal Register inviting public comment (79 FR 32532-32533, 6-5-2014). The FTZ Board has determined that no further review of the activity is warranted at this time. The production activity described in the notification is authorized, subject to the FTZ Act and the Board's regulations, including Section 400.14.

Dated: September 29, 2014.
Andrew McGilvray,
Executive Secretary.

[FR Doc. 2014-23552 Filed 10-1-14; 8:45 am]

BILLING CODE 3510-DS-P